ENVIRONMENTAL PROTECTION AGENCY

[OAR-2003-0176, FRL-7588-5]

Agency Information Collection Activities: Continuing Collection; Comment Request; Reformulated Gasoline and Conventional Gasoline: Requirements for Refiners, Oxygenate Blenders, and Importers of Gasoline; Requirements for Parties in the Gasoline Distribution Network (40 CFR 80—Subparts D, E and F) EPA ICR Number 1591.15, OMB Control Number. 2060-0277

AGENCY: Environmental Protection Agency.

ACTION: Notice.

SUMMARY: In compliance with the Paperwork Reduction Act (44 U.S.C. 3501 et seq.), this document announces that EPA is planning to submit a proposed Information Collection Request (ICR) to the Office of Management and Budget (OMB). This is a request to renew an existing approved collection. This ICR is scheduled to expire on 4-30-04. Before submitting the ICR to OMB for review and approval, EPA is soliciting comments on specific aspects of the proposed information collection as described below.

DATES: Comments must be submitted on or before January 20, 2004.

ADDRESSES: Submit your comments, referencing docket ID number OAR-2003-0213, to EPA online using EDOCKET (our preferred method), by e-mail to a-and-r-docket@epa.gov, or by mail to: EPA Docket Center, Environmental Protection Agency, Office of Air and Radiation Docket, Mail Code 6102T, 1200 Pennsylvania Ave., NW., Washington, DC 20460.

FOR FURTHER INFORMATION CONTACT: Jose M. Solar, Office of Transportation and Air Quality, Mail Code 6406J, Environmental Protection Agency, 1200 Pennsylvania Ave., NW., Washington, DC 20460; telephone number: (202) 564-9027; fax number: (202) 565-2084; e-mail address: Solar.Jose@epa.gov.

SUPPLEMENTARY INFORMATION: EPA has established a public docket for this ICR under Docket ID number OAR-2003-0213, which is available for public viewing at the Office of Air and Radiation Docket in the EPA Docket Center (EPA/DC), EPA West, Room B102, 1301 Constitution Ave., NW., Washington, DC. The EPA Docket Center Public Reading Room is open from 8:30 a.m. to 4:30 p.m., Monday through Friday, excluding legal holidays. The telephone number for the Reading Room is (202) 566-1744, and the telephone number for the Office of Air and Radiation Docket is (202) 566-1742. An electronic version of the public docket is available through EPA Dockets (EDOCKET) at http://www.epa.gov/edocket. Use EDOCKET to obtain a copy of the draft collection of information, submit or view public comments, access the index listing of the contents of the public docket, and to access those documents in the public docket that are available electronically. Once in the system, select “search,” then key in the docket ID number identified above.

Any comments related to this ICR should be submitted to EPA within 60 days of this notice. EPA's policy is that public comments, whether submitted electronically or in paper, will be made available for public viewing in EDOCKET as EPA receives them and without change, unless the comment contains copyrighted material, CBI, or other information whose public disclosure is restricted by statute. When EPA identifies a comment containing copyrighted material, EPA will provide a reference to that material in the version of the comment that is placed in EDOCKET. The entire printed comment, including the copyrighted material, will be available in the public docket. Although identified as an item in the official docket, information claimed as CBI, or whose disclosure is otherwise restricted by statute, is not included in the official public docket, and will not be available for public viewing in EDOCKET. For further information about the electronic docket, see EPA's Federal Register notice describing the electronic docket at 67 FR 38102 (May 31, 2002), or go to http://www.epa.gov./edocket.

Affected Entities: Entities potentially affected by this action are those which produce, import, or distribute gasoline.

Title: Reformulated Gasoline and Conventional Gasoline: Requirements for Refiners, Oxygenate Blenders, and Importers of Gasoline; Requirements for Parties in the Gasoline Distribution Network (40 CFR 80—Subparts D, E and F), EPA ICR No. 1591.13, OMB Control No. 2060-0277, expiration date: 4-30-04.

Abstract: Gasoline combustion is the major source of air pollution in most urban areas. The Clean Air Act (Act) requires that gasoline dispensed in certain areas with severe air quality problems be reformulated to reduce toxic and ozone-forming (smog) emissions. The Act also requires that in the process of producing reformulated gasoline (RFG), dirty components removed in the reformulation process not be “dumped” into the remainder of the country's gasoline, known as conventional gasoline (CG). The EPA promulgated regulations at 40 CFR 80 establishing standards for RFG and CG, as specified in the Act, and establishing mandatory reporting and record keeping requirements for demonstrating compliance and as an aid to enforcement. The primary requirements are to test each batch of gasoline for various properties, report the results to EPA, and demonstrate compliance with the standards on an annual basis. An agency may not conduct or sponsor, and a person is not required to respond to, a collection of information unless it displays a currently valid OMB control number. The OMB control numbers for EPA's regulations in 40 CFR are listed in 40 CFR part 9.

The EPA would like to solicit comments to:

(i) Evaluate whether the proposed collection of information is necessary for the proper performance of the functions of the Agency, including whether the information will have practical utility;

(ii) Evaluate the accuracy of the Agency's estimate of the burden of the proposed collection of information, including the validity of the methodology and assumptions used;

(iii) Enhance the quality, utility, and clarity of the information to be collected; and

(iv) Minimize the burden of the collection of information on those who are to respond, including through the use of appropriate automated electronic, mechanical, or other technological collection techniques or other forms of information technology, e.g., permitting electronic submission of responses.

Burden Statement: EPA estimates the respondent population at 75 RFG refineries, 25 RFG import facilities, 25 RFG oxygenate blenders, 225 CG refineries, 50 CG import facilities, 250 pipelines and terminals, 500 truckers, 19 independent laboratories, 20 auditors, and the RFG Survey Association, Inc. The typical RFG or CG respondent will have around 100 to 130 reports per year, depending primarily on the number of batches of gasoline involved. The total number of reports is estimated at 53,170 and the total burden at 101,585 hours. While this gives an average burden per report of about two hours, about 95% of the reports have an estimated burden of one hour. At $65 per hour, the labor cost is about $6.6 million. Most start-up costs were incurred at the start of the program in 1995. However, there is an estimated annualized capital cost for analysis equipment of $4.8 million. Annual operating and maintenance costs are estimated at about $5 million, and annual purchase of services costs are estimated at about $13.2 million. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

Dated: October 24, 2003.
Suzanne Rudzinski,
Director, Transportation and Regional Programs Division.

[FR Doc. 03-28911 Filed 11-18-03; 8:45 am]

BILLING CODE 6560-50-P